DEPARTMENT OF HOUSING AND URBAN DEVELOPMENT

[Docket No. FR-5376-N-19]

Notice of Submission of Proposed Information Collection to OMB; Emergency Comment Request; HUD ARRA Section 1512 Reporting

AGENCY: Office of Strategic Planning and Management, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: April 2, 2010.

ADDRESSES: Interested persons are invited to submit comments regarding this proposal. Comments must be received within seven (7) days from the date of this Notice. Comments should refer to the proposal by name/or OMB approval number and should be sent to: Mr. Ross A. Rutledge, HUD Desk Officer, Office of Management and Budget, New Executive Office Building, Washington, DC 20503; e-mail: RossA.Rutledge @omb.eop.gov; fax: (202) 395-5806.

FOR FURTHER INFORMATION CONTACT: Leroy McKinney, PRA Program Manager, OCIO, Department of Housing and Urban Development, 451 Seventh Street, SW., Washington, DC 20410; e-mail: Leroy.McKinneyJr@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

In addition, section 1512 of the Recovery Act requires that not later than 10 days after the end of each calendar quarter, each recipient that received recovery funds from a federal agency shall submit a report to that agency that contains: (1) The total amount of recovery funds received from the agency; (2) the amount of recovery funds received that were expended or obligated, to projects or activities; and (3) a detailed list of all projects or activities for which recovery funds were expended or obligated, including the name of the project or activity; a description of the project or activity, an evaluation of the completion status of the project or activity; an estimate of the number of jobs created and the number of jobs retained by the project or activity; and for infrastructure investments made by State and local governments, the purpose, total cost, and rationale of the agency for funding the infrastructure investment with funds made available under the Recovery Act and name of the person to contact at the agency if there are concerns with the infrastructure investment.

This Notice also lists the following information:

Title of Proposal: HUD Core Activities related to the Recovery Act.

Description of Information Collection: Public Housing Capital Fund, Assisted Housing Stability and Energy and Green Retrofit Investments Program, Community Development Block Grants, Indian Community Development Block Grant Program, Native American Housing Block Grants, Native Hawaiian Housing Block Grants, Tax Credit Assistance Program, Lead Hazard Control Grant Program; must provide information to HUD for the reporting requirements of HUD ARRA Section 1512. (“Recovery Act”) grants. Section 1512 of the Recovery Act details the reporting requirements for the recipients of recovery Act funding. Recipients are to report on the obligation and expenditure of Recovery Act funds, the projects on which those funds have been obligated and expended, an evaluation of the completion status of projects and the number of jobs created and jobs retained by the project.

OMB Control Number: 2577-0264.

Agency Form Numbers: N/A, the data will be collected utilizing a web-based application.

Members of Affected Public: State, Local Government and Non-profit organization.

Estimation of the total numbers of hours needed to prepare the information collection including number of respondents, frequency of responses, and hours of responses: The estimated number of respondents is 5,500 and the number of responses is 4. There will be in total, approximately 22,000 total responses. The total reporting burden is 90,200 hours.

Status of the proposed information collection: Revision of previously approved collection on Recovery Act projects.

Authority: The Paperwork Reduction Act of 1995, 44 U.S.C. Chapter 35, as amended.

Dated: March 22, 2010.
Leroy McKinney Jr.,
Departmental PRA Compliance Officer.

[FR Doc. 2010-6736 Filed 3-25-10; 8:45 am]

BILLING CODE 4210-67-P